FEDERAL COMMUNICATIONS COMMISSION

[OMB 3060-0207]

Information Collection Being Reviewed by the Federal Communications Commission

AGENCY: Federal Communications Commission.

ACTION: Notice and request for comments.

SUMMARY: As part of its continuing effort to reduce paperwork burdens, and as required by the Paperwork Reduction Act (PRA) of 1995 (44 U.S.C. 3501-3520), the Federal Communications Commission (FCC or the Commission) invites the general public and other Federal agencies to take this opportunity to comment on the following information collection. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid control number. No person shall be subject to any penalty for failing to comply with a collection of information subject to the PRA that does not display a valid Office of Management and Budget (OMB) control number.

DATES: Written PRA comments should be submitted on or before September 22, 2015. If you anticipate that you will be submitting comments, but find it difficult to do so within the period of time allowed by this notice, you should advise the contact listed below as soon as possible.

ADDRESSES: Direct all PRA comments to Nicole Ongele, FCC, via email PRA@fcc.gov and to Nicole.Ongele@fcc.gov.

FOR FURTHER INFORMATION CONTACT: For additional information about the information collection, contact Nicole Ongele at (202) 418-2991.

SUPPLEMENTARY INFORMATION:

OMB Control Number: 3060-0207.

Title: Part 11—Emergency Alert System (EAS), Sixth Report and Order, FCC 12-7.

Form Number: N/A.

Type of Review: Revision of a currently approved collection.

Respondents: Business or other for-profit entities, not-for-profit institutions, and state, local or tribal government.

Number of Respondents: 63,080 respondents; 3,569,028 responses.

Estimated Time per Response: 43 hours.

Frequency of Response: On occasion reporting requirement and recordkeeping requirement.

Obligation to Respond: Obligatory for all entities required to participate in EAS.

Total Annual Burden: 82,008 hours.

Total Annual Cost: No cost.

Privacy Impact Assessment: No impact.

Nature and Extent of Confidentiality: Filings will be given the presumption of confidentiality. The Commission will allow test data and reports containing individual test data to be shared on a confidential basis with other Federal agencies and state governmental emergency management agencies that have confidentiality protection at least equal to that provided by the Freedom of Information Act (FOIA). See 5 U.S.C. 552 (2006), amended by OPEN Government Act of 2007, Public Law 110-175, 121 Stat. 2524 (stating the FOIA confidentiality standard, along with relevant exemptions).

Needs and Uses: Part 11 contains rules and regulations addressing the nation's Emergency Alert System (EAS). The EAS provides the President with the capability to provide immediate communications and information to the general public at the national, state and local area level during periods of national emergency. The EAS also provides state and local governments and the National Weather Service with the capability to provide immediate communications and information to the general public concerning emergency situations posing a threat to life and property.

The FCC is now submitting this information collection as a revision to the Office of Management and Budget (OMB) to establish a mandatory Electronic Test Reporting System (ETRS) that EAS Participants must utilize to file identifying and test result data as part of their participation in the second nationwide EAS test. Although the ETRS adopted in this Sixth Report and Order in EB Docket No. 04-296, FCC 15-60, largely resembles the version used during the first nationwide EAS test, it also contains certain improvements, such as support for pre-population of form data, and integration of form data into an EAS “Mapbook.” ETRS will continue to collect such identifying information as station call letters, license identification number, geographic coordinates, EAS designation (LP, NP, etc.), EAS monitoring assignment, and emergency contact information. EAS Participants will submit this identifying data prior to the test date. On the day of the test, EAS Participants will input test results into ETRS (e.g., whether the test message was received and processed successfully). They will input the remaining data called for by our reporting rules (e.g., more detailed test results) within 45 day of the test. The Commission believes that structuring ETRS in this fashion will allow EAS Participants to timely provide the Commission with test data in a minimally burdensome fashion. As the subsequent analysis indicates, this revised collection will cause no change in the burden estimates or reporting and record keeping requirements that the Commission submitted (and which OMB subsequently approved) for the 2011 system. The revised information collection requirements contained in this collection are as follows:

Section 11.21(a) requires EAS Participants to provide the identifying information required by the EAS Test Reporting System (ETRS) no later than sixty days after the publication in the Federal Register of a notice announcing the approval by the Office of Management and Budget of the modified information collection requirements under the Paperwork Reduction Act of 1995 and an effective date of the rule amendment, or within sixty days of the launch of the ETRS, whichever is later, and shall renew this identifying information on a yearly basis or as required by any revision of the EAS Participant's State EAS Plan filed pursuant to section 11.21 of this part, and consistent with the requirements of paragraph 11.61(a)(3)(iv) of this part, section 11.61(a)(3)(iv) requires Test results as required to be logged by all EAS Participants into the EAS Test Reporting System (ETRS) as determined by the Commission's Public Safety and Homeland Security Bureau, subject to the following requirements. EAS Participants shall provide the identifying information required by the ETRS initially no later than sixty days after the publication in the Federal Register of a notice announcing the approval by the Office of Management and Budget of the modified information collection requirements under the Paperwork Reduction Act of 1995 and an effective date of the rule amendment, or within sixty days of the launch of the ETRS, whichever is later, and shall renew this identifying information on a yearly basis or as required by any revision of the EAS Participant's State EAS Plan filed pursuant to section 11.21 of this part. EAS Participants must also file “Day of test” data in the ETRS within 24 hours of any nationwide test or as otherwise required by the Public Safety and Homeland Security Bureau.

Federal Communications Commission.
Marlene H. Dortch,
Secretary.

[FR Doc. 2015-18091 Filed 7-23-15; 8:45 am]

BILLING CODE 6712-01-P